DEPARTMENT OF VETERANS AFFAIRS

Privacy Act of 1974; Report of Matching Program

AGENCY: Department of Veterans Affairs.

ACTION: Notice of Computer Matching Program.

SUMMARY: The Department of Veterans Affairs (VA) provides notice that it intends to conduct a recurring computer matching program matching Railroad Retirement Board (RRB) retirement and survivor benefit data with VA pension and dependency and indemnity compensation (DIC) records. The purpose of this match is to identify beneficiaries who are receiving both VA benefits and RRB retirement and survivor benefits, and to reduce or terminate VA benefits, if appropriate.

DATES: The match will start no sooner than 30 days after publication of this notice in the Federal Register (FR) or 40 days after copies of this notice and the agreement of the parties is submitted to Congress and the Office of Management and Budget, whichever is later, and end not more than 18 months after the agreement is properly implemented by the parties. The involved agencies' Data Integrity Boards (DIB) may extend this match for 12 months provided the agencies certify to their DIBs, within 3 months of the ending date of the original match, that the matching program will be conducted without change and that the matching program has been conducted in compliance with the original matching program.

ADDRESSES: Written comments may be submitted through www.Regulations.gov; by mail or hand-delivery to the Director, Regulations Management (02REG), Department of Veterans Affairs, 810 Vermont Avenue NW., Room 1068, Washington, DC 20420; or by fax to (202) 273-9026. Copies of comments received will be available for public inspection in the Office of Regulation Policy and Management, Room 1063B, between the hours of 8:00 a.m. and 4:30 p.m. Monday through Friday (except holidays). Please call (202) 461-4902 for an appointment. In addition, during the comment period, comments may be viewed online through the Federal Docket Management System (FDMS) at www.Regulations.gov.

FOR FURTHER INFORMATION CONTACT: Sharon Nicely, Pension Analyst, Pension and Fiduciary Service (21PF), Department of Veterans Affairs, 810 Vermont Avenue NW., Washington, DC 20420, (202) 632-8863.

SUPPLEMENTARY INFORMATION: VA will use this information to verify the income information submitted by beneficiaries of VA's needs-based benefit programs and adjust VA benefit payments as prescribed by law. The proposed matching program will enable VA to accurately identify beneficiaries who are in receipt of RRB benefits and have not reported the income as required by law and identify those beneficiaries whose RRB benefits have changed.

The legal authority to conduct this match is 38 U.S.C. 5106, which requires any Federal department or agency to provide VA such information as VA requests for the purposes of determining eligibility for benefits or verifying other information concerning payment of benefits.

The VA records involved in the match are in “Compensation, Pension, Education, and Vocational Rehabilitation and Employment Records—VA” (58 VA 21/22/28), a system of records, which was first published at 41 FR 9294 (March 3, 1976) and amended and republished in its entirety at 77 FR 42593 (July 19, 2012). The routine use authorizing VA's disclosure of information in this program is number 39. RRB will disclose the necessary information from RRB-26: Payment, Rate, and Entitlement History File, published at 75 FR 43729 (July 26, 2010). The routine use for this match is “b.”

In accordance with the Privacy Act, 5 U.S.C. 552a(o)(2) and (r), copies of the agreement are being sent to the Committee on Government Operations for both the House and Senate and to the Office of Management and Budget. This notice is provided in accordance with the provisions of the Privacy Act of 1974 as amended by Public Law 100-503.

Signing Authority: The Secretary of Veterans Affairs, or designee, approved this document and authorized the undersigned to sign and submit the document to the Office of the Federal Register for publication electronically as an official document of the Department of Veterans Affairs. Jose D. Riojas, Interim Chief of Staff, approved this document on July 17, 2013, for publication.

Dated: July 31, 2013.
Robert C. McFetridge,
Director, Regulation Policy and Management, Office of the General Counsel, Department of Veterans Affairs.

[FR Doc. 2013-18888 Filed 8-5-13; 8:45 am]

BILLING CODE 8320-01-P